DEPARTMENT OF COMMERCE

National Oceanic and Atmospheric Administration

RIN 0648-XD633

North Pacific Fishery Management Council; Public Meeting

AGENCY: National Marine Fisheries Service (NMFS), National Oceanic and Atmospheric Administration (NOAA), Commerce.

ACTION: Notice of a public meeting.

SUMMARY: The North Pacific Fishery Management Council (Council) Charter Management Implementation Committee will meet in Anchorage, AK.

DATES: The meeting will be held on December 8, 2014, from 3 p.m. to 5 p.m. (AST).

ADDRESSES: The meeting will be held at the North Pacific Fishery Management Council, 605 W. 4th Avenue, Conference Room 205, Anchorage, AK. The meeting will be accessible via teleconference: (907) 271-2896.

Council address: North Pacific Fishery Management Council, 605 W. 4th Ave., Suite 306, Anchorage, AK 99501-2252.

FOR FURTHER INFORMATION CONTACT: Steve MacLean, Council staff; telephone: (907) 271-2809.

SUPPLEMENTARY INFORMATION: The committee will meet to review analyses of potential Area 2C and Area 3A charter halibut management measures for 2015, and to make a recommendation for the Council to consider at its December, 2014 meeting. Potential management measures were posted on the Council Web site at http://www.npfmc.org/halibut-charter-management/charter-management-implementation-committee/.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: November 18, 2014.
Tracey L. Thompson,
Acting Deputy Director, Office of Sustainable Fisheries, National Marine Fisheries Service.

[FR Doc. 2014-27622 Filed 11-20-14; 8:45 am]

BILLING CODE 3510-22-P